DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the OMB for review under the Paperwork Reduction Act of 1995:

Proposed Project: The Nurse Faculty Loan Program (NFLP): Annual Operating Report (AOR) Form—NEW

The Annual Operating Report (AOR) provides information on the Nurse Faculty Loan Program (NFLP) funded loan activities. Under Title VIII of the Public Health Service Act, as amended by Public Law 107-205, Section 846A, the Secretary of Health and Human Services (HHS) enters into an agreement with a school of nursing to establish and operate the NFLP fund. HHS makes an award to the school in the form of a Federal Capital Contribution (FCC). The award is used to establish a distinct account for the NFLP loan fund at the school or is deposited into an existing NFLP fund. The school of nursing makes loans from the NFLP fund to eligible students enrolled full-time in a master's or doctoral nursing education program that will prepare them to become qualified nursing faculty. Following graduation from the NFLP lending school, loan recipients may receive up to 85 percent NFLP loan cancellation over a consecutive four-year period in exchange for service as full-time faculty at a school of nursing. The NFLP lending school collects any portion of the loan that is not cancelled. The lending school deposits monies from loan collection and repayment into the NFLP loan fund to make additional NFLP loans. The school of nursing must keep records of all NFLP loan fund transactions.

The NFLP Annual Operating Report is used to collect information relating to the NFLP loan fund operations and financial activities for a specified reporting period (July 1 through June 30 of the academic year). Participating schools will complete and submit an electronic copy of the AOR annually to provide the Federal Government with current and cumulative information on: (1) The number and amount of loans made, (2) the number of NFLP recipients and graduates, (3) the number and amount of loans collected, (4) the number and amount of loans in repayment, (5) the number of NFLP graduates employed as nurse faculty, and (6) NFLP loan fund receipts, disbursements and other related costs. The NFLP loan fund balance is used with other criteria to determine the annual award to the school.

Once the AOR is completed by the participating school, the AOR will be submitted electronically through the HRSA Electronic Handbook.

The estimate of burden for this form is as follows:

Form | Number of respondents | Responses per respondent | Total responses | Hours per responses | Total burden hours
Nurse Faculty Loan Program Annual Operating Report (AOR) | 150 | 1 | 150 | 8 | 1200
Total Burden | 150 | 1 | 150 | 8 | 1200

Written comments and recommendations concerning the proposed information collection should be sent within 30 days of this notice to the desk officer for HRSA, either by e-mail to OIRA_submission@omb.eop.gov or by fax to 202-395-6974. Please direct all correspondence to the “attention of the desk officer for HRSA.”

Dated: September 10, 2007.
Alexandra Huttinger,
Acting Director, Division of Policy Review and Coordination.

[FR Doc. E7-18223 Filed 9-14-07; 8:45 am]

BILLING CODE 4165-15-P